DEPARTMENT OF THE INTERIOR

Bureau of Indian Affairs

St. Croix Meadows Racing Park, Draft Environmental Assessment; Notice of Availability

AGENCY: Bureau of Indian Affairs, Interior.

ACTION: Notice of availability.

SUMMARY: The Department of the Interior (DOI) announces the availability for public review and comment the draft environmental assessment (EA) for the proposed acquisition of the St. Croix Meadows Racing Park in trust for the Sokaogon Chippewa Community of Wisconsin, Lac Courte Oreilles Band of Lake Superior Chippewa and Red Cliff Band of Lake Superior Chippewa (Tribes), located in Hudson, St. Croix County, Wisconsin.

DATES: DOI invites all interested parties to submit comments on the draft EA during a comment period ending August 30, 2000. Written comments must be postmarked by August 30, 2000 to ensure consideration. Comments postmarked after that date will be considered to the extent practicable.

ADDRESSES: Written comments on the draft EA should be directed to: Nancy Pierskalla, Office of Indian Gaming Management, Bureau of Indian Affairs, 1849 C Street NW, MS 2070 MIB, Washington, DC 20240; by telefax at (202) 273-3153, or via the Internet: nancypierskalla@bia.gov. The draft EA is available electronically through the Internet at www.doi.gov/bia/gaming/hudson.htm. Copies of the draft EA are also available for review at the Hudson Public Library, 911 4th Street, Hudson, Wisconsin 54016, the Bureau of Indian Affairs, Midwest Regional Office, One Federal Drive, Room 550, Fort Snelling, Minnesota 55111, and the Bureau of Indian Affairs, Great Lakes Agency, 615 West Main, Ashland, Wisconsin 54806.

If you prefer to send your comments through the Internet, use the following address: nancypierskalla@bia.gov.

FOR FURTHER INFORMATION CONTACT: Nancy Pierskalla, Office of Indian Gaming Management, Bureau of Indian Affairs, 1849 C Street NW, MS 2070 MIB, Washington, DC 20240; by telephone at (202) 219-4066; or by telefax at (202) 273-3153.

SUPPLEMENTARY INFORMATION: By letter dated March 23, 2000, Roger McGeshick, Jr, Chairman, Sokaogon Chippewa Community of Wisconsin, gaiashkibos, Chairman, Lac Courte Oreilles Band of Lake Superior Chippewa Indians of Wisconsin, and Jean Buffalo-Reyes, Chairwoman, Red Cliff Band of Lake Superior Chippewa Indians of Wisconsin (collectively referred to as the Tribes), submitted to the Assistant Secretary—Indian Affairs (AS-IA), the Tribes application for a two-part Secretarial determination that a gaming establishment on a 55.82 acre parcel of land to be acquired in trust for the benefit of the Tribes in Hudson, St. Croix County, Wisconsin, is in the best interest of the Tribe and its members, and not detrimental to the surrounding community, in accordance with Section 20(b)(1)(A) of the Indian Gaming Regulatory Act (IGRA), 25 U.S.C. § 2719(b)(1)(A).

The Tribes intend to use the Hudson Property for Class III gaming purposes. The main building of the St. Croix Meadows Racing Facility consists of a two story grandstand with a mezzanine level. The grandstand has two full floors, an intermediate mezzanine and a small rooftop booth area. The enclosed area of the grandstand is approximately 160,000 square feet. The ground floor area is 64,000 square feet, the mezzanine area is 32,000 square feet, the upper “grandstand” floor is 62,000 square feet, and a booth area of 2,600 square feet is at the roof level. A transitional plan has been developed for the retrofitting of the facility. The first phase will include the opening of the temporary casino in the clubhouse area on the second floor. The temporary facility will contain approximately 1,000 gaming machines and 15 table games. Pari-mutual areas will be maintained in the terrace areas adjacent to the structural glass wall overlooking the racetrack. There are existing food and beverage and lounge areas on this floor which will service both the temporary casino and pari-mutual operations.

The second phase of the operation is the development of the permanent casino which is expected to utilize approximately 50,000 square feet of the ground floor and contain 1,500 gaming machines and 30 table games. After the permanent casino is operating, the third floor temporary casino will be closed and converted into an upscale dining area and an extensive buffet restaurant area. Pari-mutual wagering will be offered along the glass on both the first and third floor gaming areas and in the sports bar area on the first floor.

The Bureau has prepared an Environmental Assessment (EA) under the National Environmental Policy Act, 42 U.S.C. 4321, et seq., to evaluate the potential impacts of the trust acquisition and to assist it in determining whether an environmental impact statement is required for the proposed acquisition. In the EA, the BIA analyzes the impacts of the proposed acquisition and the no action alternative (not acquiring the property in trust). Under the Settlement Agreement in Paragraph 10 in the case Sokaogon Chippewa Community, et al., v. Babbitt. et al., Case No. 95-C-0659-C, the BIA is releasing the draft EA for a thirty-day public comment period. Comments will be accepted at the address listed in the ADDRESSES section of this notice.

Dated: July 25, 2000.
Nancy Jemison,
Acting Deputy Commissioner of Indian Affairs.

[FR Doc. 00-19275 Filed 7-28-00; 8:45 am]

BILLING CODE 4310-02-P